NUCLEAR REGULATORY COMMISSION

[Docket Nos. 50-277 and 50-278; NRC-2010-0160]

Exelon Generation Company, LLC; PSEG Nuclear, LLC; Notice of Withdrawal of Application for Amendment to Facility Operating License

The U.S. Nuclear Regulatory Commission (the Commission or NRC) has granted the request of Exelon Generation Company, LLC, and PSEG Nuclear, LLC, (the licensee) to withdraw its June 25, 2008, application for proposed amendment to Facility Operating License Nos. DPR-44 and DPR-56 for the Peach Bottom Atomic Power Station (PBAPS), Units 2 and 3, located in York and Lancaster Counties, Pennsylvania.

The proposed amendment would have revised the PBAPS, Units 2 and 3, Technical Specification Section 4.3.1.1.a concerning the spent fuel pool k-infinity value. The amendment application dated June 25, 2008, (Agencywide Documents Access and Management System (ADAMS) Accession No. ML081820348) was supplemented by letters dated November 6, 2008, March 9, 2009, June 12, 2009, December 18, 2009, and March 26, 2010 (ADAMS Accession Nos. ML083190840, ML090690804, ML091740446, ML093521435, and ML100910075, respectively).

The Commission had previously issued a Notice of Consideration of Issuance of Amendment published in the Federal Register on April 26, 2010 (75 FR 21680). However, by letter dated June 18, 2010, (ADAMS Accession No. ML101690377) the licensee withdrew the proposed change.

For further details with respect to this action, see the application for amendment dated June 25, 2008, and the licensee's letter dated June 18, 2010, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 24th day of June 2010.
For the Nuclear Regulatory Commission.
John D. Hughey,
Project Manager, Plant Licensing Branch I-2, Division of Operating Reactor Licensing, Office of Nuclear Reactor Regulation.

[FR Doc. 2010-15898 Filed 6-30-10; 8:45 am]

BILLING CODE 7590-01-P